DEPARTMENT OF ENERGY

Federal Energy Regulatory Commission

[Docket No. RP02-132-001]

Viking Gas Transmission Company; Notice of Motion To Place Suspended Rates and Sheets Into Effect

July 3, 2002.

Take notice that on June 28, 2002, Viking Gas Transmission Company (Viking) filed a motion pursuant to Section 4 of the Natural Gas Act (NGA) and Section 154.206 of the Commission's Regulations, 18 CFR 154.206 (2001), to move into effect, subject to refund, on July 1, 2002, as part of its FERC Gas Tariff, First Revised Volume No. 1, the rates and tariff sheets that were previously accepted and suspended, subject to refund, by the Commission in its January 30, 2002 “Order Accepting and Suspending Tariff Sheets Subject To Refund and Conditions and Establishing Hearing Procedures” issued in Docket No. RP02-132-000, 98 FERC ¶ 61,066 (“January 30, 2002 Suspension Order”). These sheets are listed on Appendix A to this filing.

In addition and to the extent necessary to effectuate the rates accepted and suspended, subject to refund, to be effective July 1, 2002 pursuant to the January 30, 2002 Suspension Order, Viking filed a motion to move into effect, subject to refund, the substitute tariff sheets listed on Appendix B which incorporate the rates accepted and suspended by the Commission in its January 30, 2002 Suspension Order along with the annual adjustment that Viking filed and the Commission accepted to Viking's Fuel and Loss Retention Percentages (FLRPs) and Load Management Cost Reconciliation Adjustment (LMCRA).

Viking states that copies of this motion filing are being served on all jurisdictional customers, interested state commissions and all parties to this proceeding.

Any person desiring to be heard or to protest said filing should file a motion to intervene or a protest with the Federal Energy Regulatory Commission, 888 First Street, NE., Washington, DC 20426, in accordance with Sections 385.214 or 385.211 of the Commission's Rules and Regulations. All such motions or protests must be filed on or before July 10, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-17393 Filed 7-10-02; 8:45 am]

BILLING CODE 6717-01-P